FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 18, 2012. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0233.

Title: Part 36, Separations.

Form Number: N/A.

Type of Review: Revision of a currently approved collection.

Respondents: Business or other for-profit entities.

Number of Respondents: 1,162 respondents; 1,582 responses.

Estimated Time per Response: 22 hours.

Frequency of Response: On occasion, annual and quarterly reporting requirements and third party disclosure requirements.

Obligation to Respond: Required to obtain or retain benefits. Statutory authority for this information collection is contained in 47 U.S.C. 151, 152, 154, 161, 201-205 and 218-220 of the Communications Act of 1934, as amended.

Total Annual Burden: 34,804 hours.

Total Annual Cost: N/A.

Privacy Impact Assessment: N/A.

Nature and Extent of Confidentiality: No assurance of confidentiality has been given regarding the information provided. However, respondents may request materials or information submitted to the Commission be withheld from public inspection under 47 CFR 0.459 of the Commission's rules.

Needs and Uses: After the 60 day comment period is complete; the Commission is seeking OMB approval for a revision in order to obtain the full three year clearance from them.

The Commission is revising this information collection due to Commission rule changes that no longer require price-cap regulated carriers and competitive carriers to file cost or loop count data. These rule changes resulted in a decrease of 36,479 hours due to a decrease in the estimated number of respondents (835) and responses (5,980).

In order to determine which carriers are entitled to universal service support, all rate-of-return incumbent local exchange carriers (LECs) must provide the National Exchange Carrier Association (NECA) with the loop cost and loop count data required by 47 CFR 63.611 of the Commission's rules for each of its study areas and, if applicable, for each wire center (that term is defined in 47 CFR Part 54). Loops are the telephone lines running from the carrier's switching facilities to the customer. The loop cost and loop count information are to be filed annually with NECA by July 31st of each year, and may be updated quarterly pursuant to 47 CFR 63.612. Pursuant to section 36.613, the information filed on July 31st of each year will be used to calculate universal service support for each study area and is filed by NECA with the Commission by October 1 of each year. An incumbent LEC is defined as a carrier that meets the definition of “incumbent local exchange carrier” in 47 CFR 51.5 <http://web2.westlaw.com/find/default.wl?mt=FederalGovernment&db=1000547&docname=47CFRS51.5&rp=%2ffind%2fdefault.wl&findtype=L&ordoc=0346830476&tc=-1&vr=2.0&fn=_top&sv=Split&tf=-1&pbc=C4FF690D&rs=WLW12.04> of the Commission's rules. Quarterly loop cost and loop count data filings are voluntary for rate-of-return carriers.

The reporting requirements are necessary to implement the congressional mandate for universal service. The requirements are necessary to verify that rate-of-return LECs are eligible to receive universal service support. Information filed with NECA pursuant to section 36.611 is used to calculate universal service support payments to eligible carriers. Without this information, NECA and USAC (Universal Service Administration Company) would not be able to calculate such payments to eligible carriers.

OMB Control Number: 3060-0824.

Title: Service Provider Identification Number (SPIN) and Contact Form.

Form Number: FCC Form 498.

Type of Review: Revision of a currently approved collection.

Respondents: Business or other for-profit entities and not-for-profit institutions.

Number of Respondents: 5,000 respondents; 5,000 responses.

Estimated Time per Response: 1.5 hours.

Frequency of Response: On occasion reporting requirements and third party disclosure requirements.

Obligation to Respond: Required to obtain or retain benefits. Statutory authority for this information collection is contained in 47 U.S.C. 151, 152, 153, 154 and 254 of the Communications Act of 1934, as amended.

Total Annual Burden: 7,500 hours.

Total Annual Cost: N/A.

Privacy Impact Assessment: N/A.

Nature and Extent of Confidentiality: No assurance of confidentiality has been given regarding the information provided. However, respondents may request materials or information submitted to the Commission be withheld from public inspection under 47 CFR 0.459 of the Commission's rules.

Needs and Uses: The Commission is seeking OMB approval for a revision in order to obtain the full three year clearance from them. There is no change to the previous burden estimates.

As detailed in the Supporting Statement that will be submitted to the OMB for review and approval, the Commission proposes changes to certain parts of FCC Form 498 to improve the efficiency of administering the universal service support mechanism. Specifically, the Commission is proposing:

(1) Adding an additional field for a company's Federal Registration Number (FRN);

(2) Adding a column for the Study Area Code Company Name;

(3) Adding the ability for a carrier to designate an alternate bank account for the payment of BEAR funds;

(4) Adding a box and supplemental sheet that allows respondents to include information about affliates;

(5) Updating the Principal Communications Types to include additional business types as listed on the FCC Form 499-A; and

(6) Adding a box on the form that will allow service providers to cease participation in the associated program without having to deactivate their entire SPIN. The information collected on FCC Form 498 is used by the Universal Service Administrative Company (USAC) to disburse federal universal service support consistent with the specifications of carriers and service providers who participate and receive support from any of the four universal service support programs (High-Cost, Low-Income, Rural Health Care and Schools and Libraries). FCC Form 498 submissions also provide USAC with updated contact information, enabling USAC to contact universal service fund participants when necessary.

Federal Communications Commission.
Marlene H. Dortch,
Secretary, Office of the Secretary, Office of Managing Director.

[FR Doc. 2012-17521 Filed 7-19-12; 8:45 am]

BILLING CODE 6712-01-P